DEPARTMENT OF ENERGY

Federal Energy Regulatory Commission

[Docket No. EG02-14-000, et al.]

Nine Mile Point Nuclear Station, LLC, et al.; Electric Rate and Corporate Regulation Filings

November 2, 2001.

Take notice that the following filings have been made with the Commission:

1. Nine Mile Point Nuclear Station, LLC

[Docket No. EG02-14-000]

Take notice that on October 29, 2001, Nine Mile Point Nuclear Station, LLC (Nine Mile LLC), a Delaware limited liability company with its principal place of business at 39 W. Lexington Street, Baltimore, Maryland 21201, filed with the Federal Energy Regulatory Commission (Commission) an application for determination of exempt wholesale generator status pursuant to part 365 of the Commission's regulations.

Copies of the Application have been served upon the New York Public Service Commission, the Maine Public Utilities Commission and the Maryland Public Service Commission.

Comment date: November 23, 2001, in accordance with Standard Paragraph E at the end of this notice. The Commission will limit its consideration of comments to those that concern the adequacy or accuracy of the application.

2. Cogentrix Energy Power Marketing, Inc.

[Docket Nos. ER95-1739-019, ER99-452-000, and ER99-411-000]

Take notice that on October 30, 2001, Cogentrix Energy Power Marketing, Inc. (CEPM) filed with the Federal Energy Regulatory Commission (Commission) its three-year updated market analysis. CEPM is a power marketer and broker, owning no generation, with its principal place of business in Charlotte, North Carolina.

Comment date: November 20, 2001, in accordance with Standard Paragraph E at the end of this notice.

3. Southwestern Electric Cooperative, Inc., Complainant, v. Soyland Power Cooperative, Inc., Respondent.

[Docket No. EL99-14-003]

Take notice that on October 31, 2001, Soyland Power Cooperative, Inc. tendered for filing a Refund Report in compliance with the orders issued in the above-captioned docket. See Southwestern Electric Cooperative, Inc. v. Soyland Power Cooperative, Inc., 90 FERC ¶ 63,001 (2000), 95 FERC ¶ 61,254 (2001), 97 FERC ¶ 61,008 (2001).

Comment date: November 30, 2001, in accordance with Standard Paragraph E at the end of this notice.

4. Arizona Public Service Company

[Docket No. ER99-3288-004]

Take notice that on October 30, 2001, Arizona Public Service Company (APS) tendered for filing with the Federal Energy Regulatory Commission (Commission) Quarterly Refund payments to eligible wholesale customers under the Company's Fuel Cost Adjustment Clause (FAC).

A copy of this filing has been served upon the affected parties, the California Public Utilities Commission, and the Arizona Corporation Commission.

Comment date: November 20, 2001, in accordance with Standard Paragraph E at the end of this notice.

5. Conectiv Delmarva Generation, Inc.

[Docket No. ER00-3168-003]

Take notice that, on October 31, 2001, Conectiv, on behalf of Delmarva Power & Light Company and Conectiv Delmarva Generation, Inc., submitted its compliance filing to the Federal Energy Regulatory Commission (Commission) in the above captioned proceeding. Copies of the filing were served on the official service list in this proceeding.

Comment date: November 21, 2001, in accordance with Standard Paragraph E at the end of this notice.

6. BP Energy Company

[Docket No. ER00-3614-001]

Take notice that on October 31, 2000, BP Energy Company (BP) submitted its First Revised FERC Electric Rate Schedule No. 1, proposed to become effective August 22, 2000. BP states that this filing is made in compliance with the Commission's order dated October 18, 2000 in the captioned proceeding.

Comment date: November 23, 2001, in accordance with Standard Paragraph E at the end of this notice.

7. Geysers Power Company, LLC

[Docket No. ER01-812-001]

Take notice that on October 30, 2001, Geysers Power Company, LLC (Geysers Power) filed its response to a request for additional information received from Federal Energy Regulatory Commission (Commission) staff in this docket. Geysers Power provides RMR services to the California Independent System Operator Corporation (CAISO) pursuant to the Geysers Main RMR Agreement accepted by the Commission in California ISO Corp., et al., 87 FERC P. 61,250 (1999). The request directed Geysers Power to submit a form of notice with its filing.

Comment date: November 20, 2001, in accordance with Standard Paragraph E at the end of this notice.

8. Tampa Electric Company

[Docket No. ER01-1898-002]

Take notice that on October 29, 2001, Tampa Electric Company (Tampa Electric) submitted to the Federal Energy Regulatory Commission (Commission) Original Sheet Nos. 72 through 76 for inclusion in its First Revised Rate Schedule FERC No. 62, which is its interchange service contract with Alabama Power Company, Georgia Power Company, Gulf Power Company, Mississippi Power Company, Savannah Electric and Power Company, and Southern Company Services, Inc. (collectively, Southern Companies), as reformatted in Docket No. ER01-1898-001 in accordance with the Commission's Order No. 614. Tampa Electric also submitted a sheet designated as First Revised Sheet Nos. 72 through 76 Superseding Original Sheet Nos. 72 through 76.

Tampa Electric states that the purpose of the filing is: (1) To include in the reformatted rate schedule, from its May 1, 2001 effective date through July 31, 2001, an addendum concerning sulfur dioxide emissions allowances that was overlooked in the earlier compliance filing; and (2) to cancel the sheets containing the addendum effective August 1, 2001, when the addendum becomes an independent rate schedule.

A copy of the supplemental compliance filing has been served on each person designated on the official service list in this docket, the Southern Companies, and the Florida Public Service Commission.

Comment date: November 19, 2001, in accordance with Standard Paragraph E at the end of this notice.

9. American Electric Power Service Corporation

[Docket No. ER02-197-000]

Take notice that on October 31, 2001, American Electric Power Service Corporation (AEPSC) submitted for filing with the Federal Energy Regulatory Commission (Commission) a Service Agreement for ERCOT Regional transmission Service between AEPSC and Medina Electric Cooperative Inc. (MEC), dated October 1, 2001; a notice of cancellation of a service agreement for ERCOT regional transmission service between CPL and West Texas Utilities Company collectively, and MEC, dated January 1, 1997; an amended interconnection agreement between Central Power and Light Company (CPL) and MEC, dated November 29, 1999; and a notice of cancellation of an interchange agreement among CLP, MEC and South Texas Electric Cooperative, Inc., dated February 6, 1979.

AEPCS requests an effective date of October 1, 2001 for the Service Agreement for ERCOT Regional Transmission Service and an effective date of August 30, 2000 for the amendment to Facility Schedule No. 7 of the interconnection agreement and if requests that the interchange agreement to canceled effective August 28, 2001.

AEPSC served copies of the filing on Medina Electric Cooperative, Inc. and the Public Utility Commission of Texas.

Comment date: November 21, 2001, in accordance with Standard Paragraph E at the end of this notice.

10. Southern California Edison Company

[Docket No. ER02-200-000]

Take notice that on October 30 , 2001, Southern California Edison Company (SCE) submitted for filing with the Federal Energy Regulatory Commission (Commission) a Letter Agreement between SCE and Ridgewood Olinda, LLC (Ridgewood).

The Letter Agreement specifies the terms and conditions under which SCE will provide limited pre-interconnection services including procurement, engineering, and limited construction.

Copies of this filing were served upon the Public Utilities Commission of the State of California and Ridgewood.

Comment date: November 20, 2001, in accordance with Standard Paragraph E at the end of this notice.

11. Mirant Delta, LLC; Mirant Potrero, LLC

[Docket No. ER02-198-000]

Take notice that, on October 31, 2001, Mirant Delta, LLC (Mirant Delta) and Mirant Potrero, LLC (Mirant Potrero) tendered for filing with the Federal Energy Regulatory Commission (Commission) certain revised tariff sheets to the Must-Run Service Agreements between Mirant Delta, Mirant Potrero, and the California Independent System Operator Corporation. The revisions include, inter alia, changes to the: (i) Contract Service Limits, (ii) Hourly Availability Charges and Penalty Rates, (iii) Prepaid Start-up Costs, (iv) projected outage information, (v) Annual Fixed Revenue Requirements, and (vi) Variable O&M rates for the generating units owned by Mirant Delta and Mirant Potrero, for the year beginning January 1, 2002.

Comment date: November 21, 2001, in accordance with Standard Paragraph E at the end of this notice.

12. Exelon Generation Company, LLC

[Docket No. ER02-201-000]

Take notice that on October 29, 2001, Exelon Generation Company, LLC (Exelon Generation), submitted for filing with the Federal Energy Regulatory Commission (Commission) notices of cancellation of its service agreements for the purchase and sale of power and energy with Reliant Energy Services, Inc., DTE Energy Trading, Inc., and The Detroit Edison Company.

Exelon Generation proposes that the cancellations be made effective on November 16, 2001, and therefore requests waiver of the Commission's notice requirement.

Comment date: November 19, 2001, in accordance with Standard Paragraph E at the end of this notice.

13. Exelon Generation Company, LLC; Exelon Energy Company

[Docket No. ER02-202-000]

Take notice that on October 30, 2001, Exelon Generation Company, LLC (Exelon Generation) and Exelon Energy Company (Exelon Energy) tendered for filing with the Federal Energy Regulatory Commission (Commission) Notice of Cancellation of the long-term power sales service agreement between Exelon Generation and Exelon Energy, Exelon Generation Company, LLC, FERC Electric Tariff First Revised Volume No. 1, Service Agreement No. 257, and Exelon Energy Company, FERC Electric Tariff Original Volume No. 1, Service Agreement No. 1.

Comment date: November 20, 2001, in accordance with Standard Paragraph E at the end of this notice.

14. The Detroit Edison Company

[Docket No. ER02-203-000]

Take notice that on October 30, 2001, The Detroit Edison Company (Detroit Edison) tendered for filing with the Federal Energy Regulatory Commission (FERC or Commission) Service Agreements for wholesale power sales transactions (the Service Agreements) under Detroit Edison's Wholesale Power Sales Tariff (WPS-2), FERC Electric Tariff No. 3 (the WPS-2 Tariff) between Detroit Edison and the following parties: Exelon Generation Company, LLC; H.Q. Energy Services, (U.S.), Inc.; and PSEG Energy Resources and Trade.

In addition, Detroit Edison tendered for filing notices of cancellation of service agreements between Detroit Edison and PECO Electric Company—Power Team, on file with FERC in Docket No. ER97-2320-000, and between Detroit Edison and Public Service Electric & Gas Company, on file with FERC in Docket No. ER98-201-000.

Comment date: November 20, 2001, in accordance with Standard Paragraph E at the end of this notice.

15. Exelon Generation Company, LLC

[Docket No. ER-02-204-000]

Take notice that on October 31, 2001, Exelon Generation Company, LLC (Exelon Generation), submitted for filing with the Federal Energy Regulatory Commission (Commission) a power sales service agreement between Exelon Generation and Constellation Power Source, Inc., under Exelon Generation's wholesale power sales tariff, FERC Electric Tariff Original Volume No. 2.

Comment date: November 21, 2001, in accordance with Standard Paragraph E at the end of this notice.

16. Public Service Company of New Mexico

[Docket No. ER02-205-000]

Take notice that on October 31, 2001, Public Service Company of New Mexico (PNM) submitted for filing with the Federal Energy Regulatory Commission (Commission) two executed service agreements with Enserco Energy, Inc. under the terms of PNM's Open Access Transmission Tariff. One agreement is for non-firm point-to-point transmission service and one agreement is for short-term firm point-to-point transmission service. PNM requests October 16, 2001, as the effective date for the agreements. PNM's filing is available for public inspection at its offices in Albuquerque, New Mexico.

Copies of the filing have been sent to Enserco Energy, Inc. and to the New Mexico Public Regulation Commission.

Comment date: November 21, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-28071 Filed 11-7-01; 8:45 am]

BILLING CODE 6717-01-P